DEPARTMENT OF ENERGY

Federal Energy Regulatory Commission

[Docket No. RM04-9-000]

Electronic Notification of Commission Issuances; Notice of New Service List Download Options

December 6, 2005.

Take notice that on December 6, 2005, the Commission released a new version of its Web Service List system. The new version allows users to download the postal addresses only for those persons who do not have an e-mail address on the service list. Previously, the only option for postal addresses was to download the postal addresses for all contacts, including those who could be served by e-mail.

The three download options are:

1. E-mail: Downloads the e-mail addresses for all contacts on the service list that are linked to an eRegistration account. The addresses are placed in a text file with a semicolon delimiter. It may be necessary to change the delimiter if your e-mail product requires a different delimiter. Once the delimiter is correct, you can copy/paste the addresses into an e-mail address field. Please note that pasting numerous addresses in a single e-mail may trigger some spam-prevention programs.

2. Postal contacts without e-mail: Downloads the postal addresses only for those contacts that are not linked to an eRegistration account for the applicable service list. The download format options are the same as before: Delimited with a semicolon, comma, space, tab, or tilde; fixed length; Excel; Database file (dbf); or XML format. Options 1 and 2 together account for all contacts on the service list.

3. All contacts: Downloads the postal addresses for all contacts, whether they are linked to an eRegistration account or not, with the same format options as above. Option 3 also accounts for all contacts on the service list.

The record format for the postal address download options is identical to the previous version. However, if you use the “Postal contacts without e-mail” option, the downloaded file will contain blank entries in any record where one or both of the contacts had an e-mail address. This means that some users may need to revise a macro or other program used to generate mail labels to account for the blank entries.

The Commission encourages any party intervening in Commission proceedings to efile the motion to intervene and to ensure that all contacts for the party and for a law firm that may represent the party have validated eRegistration accounts. The eFiling system allows persons filing a motion to intervene to specify all of the parties to the motion, all legal representatives of the party or parties, and any other contacts for the parties that should be served.

Contacts for entities filing applications, petitions, or requests with the Commission should also have validated eRegistration accounts even if the application, petition, or request itself cannot be submitted to the Commission electronically. This will enable the Commission's Registry staff to select the eRegistration account for each contact so that the contact's e-mail address will appear on the service list.

All persons with eRegistration accounts should maintain those accounts to reflect current address and other information. If an account holder's e-mail address changes, and the account holder wants to preserve links to existing service lists and eSubscriptions, that person should edit the e-mail address in the existing account instead of creating a new account. Persons should create new accounts only when, as a result of a move to another company or firm, there is no need to preserve links to service lists and eSubscriptions linked to the previous account.

For additional guidance on using FERC Online for eRegistration, eFiling, and eService, refer to the FERC Online Reference Guide at http://www.ferc.gov/docs-filing/fol-ref-guide.pdf.

Magalie R. Salas,
Secretary.

[FR Doc. E5-7213 Filed 12-9-05; 8:45 am]

BILLING CODE 6717-01-P